DEPARTMENT OF DEFENSE

Office of the Secretary

Meeting To Discuss the TRICARE Voluntary Agreements for Retail Refunds (VARRs) Program

AGENCY: Department of Defense, Assistant Secretary of Defense (Health Affairs).

ACTION: Notice of meeting.

SUMMARY: In response to pharmaceutical industry interest in the TRICARE VARRs Program, Department of Defense will host a meeting to discuss policies and procedures for VARRs.

DATES: Thursday, May 1, 2008 (8 a.m.-12 p.m.).

ADDRESSES: Marriott Wardman Park, 2600 Woodley Road, NW., Washington, DC 20008.

FOR FURTHER INFORMATION CONTACT: LTC Travis Watson, Deputy Director, Skyline 5, Suite 810, 5111 Leesburg Pike, Falls Church, Virginia 22041-3206, Telephone: (703) 681-2890; Fax: (703) 681-1940, E-mail Address: UFVARR@tma.osd.mil.

SUPPLEMENTARY INFORMATION: Purpose of Meeting: To provide pharmaceutical manufacturers the policies and procedures TRICARE Management Activity uses under the VARRs Program.

Meeting Agenda: Sign-in; welcome and opening remarks; review of program; discussion of reporting; questions and answers; closing remarks.

Meeting Accessibility: The availability of space in this meeting is open to the public. Seating is limited and all persons must sign in legibly.

Written Statements: The public or interested organizations may submit written statements to UFVARR@tma.osd.mil at any time or in response to the stated agenda of a planned meeting.

Dated: April 16, 2008.
Patricia L. Toppings,
Alternate OSD Federal Register, Liaison Officer, Department of Defense.

[FR Doc. E8-8802 Filed 4-22-08; 8:45 am]

BILLING CODE 5001-06-P